SOCIAL SECURITY ADMINISTRATION

[Docket No. SSA-2024-0030]

Cost-of-Living Increase and Other Determinations for 2025

AGENCY: Social Security Administration.

ACTION: Notice.

SUMMARY: Under title II of the Social Security Act (Act), there will be a 2.5 percent cost-of-living increase in Social Security benefits effective December 2024. In addition, the national average wage index for 2023 is $66,621.80. The cost-of-living increase and national average wage index affect other program parameters as described below.

FOR FURTHER INFORMATION CONTACT: Kathleen K. Sutton, Office of the Chief Actuary, Social Security Administration, 6401 Security Boulevard, Baltimore, MD 21235, (410) 965-3000. Information relating to this announcement is available at www.ssa.gov/oact/cola/index.html. For information on eligibility or claiming benefits, call 1-800-772-1213 (TTY 1-800-325-0778) or visit www.ssa.gov.

SUPPLEMENTARY INFORMATION: Because of the 2.5 percent cost-of-living increase, the following items will increase for 2025:

(1) The maximum Federal Supplemental Security Income (SSI) monthly payment amounts for 2025 under title XVI of the Act will be $967 for an eligible individual; $1,450 for an eligible individual with an eligible spouse; and $484 for an essential person.

(2) The special benefit amount under title VIII of the Act for certain World War II (WWII) veterans will be $725.25 for 2025.

(3) The student earned income exclusion under title XVI of the Act will be $2,350 per month in 2025, but not more than $9,460 for all of 2025.

(4) The dollar fee limit for services performed as a representative payee will be $55 per month ($103 per month in the case of a beneficiary who is determined to be disabled, has an alcoholism or drug addiction condition, and is incapable of managing benefits) in 2025.

(5) The assessment (or “user fee”) dollar limit on the administrative cost charged when the agency pays authorized representative fees directly out of a claimant's past due benefits will be $120, beginning in December 2024.

The national average wage index for 2023 is $66,621.80. This index affects the following amounts:

(1) The Old-Age, Survivors, and Disability Insurance (OASDI) contribution and benefit base will be $176,100 for remuneration paid in 2025 and self-employment income earned in tax years beginning in 2025.

(2) The monthly exempt amounts under the OASDI retirement earnings test for tax years ending in calendar year 2025 will be $1,950 for beneficiaries who will attain their Normal Retirement Age (NRA) (defined in the Retirement Earnings Test Exempt Amounts section below) after 2025 and $5,180 for those who attain NRA in 2025.

(3) The dollar amounts (bend points) used in the primary insurance amount (PIA) formula for workers who become eligible for benefits or who die before becoming eligible, in 2025, will be $1,226 and $7,391.

(4) The bend points used in the formula for computing maximum family benefits for workers who become eligible for retirement benefits, or who die before becoming eligible, in 2025, will be $1,567, $2,262, and $2,950.

(5) The taxable earnings a person must have in 2025 to be credited with a quarter of coverage will be $1,810.

(6) The “old-law” contribution and benefit base under title II of the Act will be $130,800 for 2025.

(7) The monthly amount of earnings deemed to constitute substantial gainful activity (SGA) for statutorily blind people in 2025 will be $2,700. The corresponding amount of earnings for non-blind people with a determined disability will be $1,620.

(8) The earnings threshold establishing a month as a part of a trial work period will be $1,160 for 2025.

(9) Coverage thresholds for 2025 will be $2,800 for domestic workers and $2,400 for election officials and election workers.

According to section 215(i)(2)(D) of the Act, we must publish the benefit increase percentage and the revised table of “special minimum” benefits within 45 days after the close of the third calendar quarter of 2024.

We must also publish the following by November 1: the national average wage index for 2023 (215(a)(1)(D)), the OASDI fund ratio for 2024 (section 215(i)(2)(C)(ii)), the OASDI contribution and benefit base for 2025 (section 230(a)), the earnings required to be credited with a quarter of coverage in 2025 (section 213(d)(2)), the monthly exempt amounts under the Social Security retirement earnings test for 2025 (section 203(f)(8)(A)), the formula for computing a PIA for workers who first become eligible for benefits or die in 2025 (section 215(a)(1)(D)), and the formula for computing the maximum benefits payable to the family of a worker who first becomes eligible for old-age benefits or dies in 2025 (section 203(a)(2)(C)).

Cost-of-Living Increases

General

The cost-of-living increase is 2.5 percent for monthly benefits under title II and for monthly payments under title XVI of the Act. Under title II, OASDI monthly benefits will increase by 2.5 percent for individuals eligible for December 2024 benefits, payable in January 2025 and thereafter. We base this increase on the authority contained in section 215(i) of the Act.

Pursuant to section 1617 of the Act, Federal SSI benefit rates will also increase by 2.5 percent effective for payments made for January 2025 but paid on December 31, 2024.

Computation

Computation of the cost-of-living increase is based on an increase in a Consumer Price Index (CPI) produced by the Bureau of Labor Statistics. At the time the Act was amended to provide automatic cost-of-living increases starting in 1975, only one CPI existed, namely the index now referred to as CPI for Urban Wage Earners and Clerical Workers (CPI-W). Although the Bureau of Labor Statistics has since developed other CPIs, we follow precedent by continuing to use the CPI-W. We refer to this index in the following paragraphs as the CPI.

Section 215(i)(1)(B) of the Act defines a “computation quarter” to be a third calendar quarter in which the average CPI exceeded the average CPI in the previous computation quarter. The last cost-of-living increase, effective for those eligible to receive title II benefits for December 2023, was based on the CPI increase from the third quarter of 2022 to the third quarter of 2023. Therefore, the last computation quarter is the third quarter of 2023. The law states that a cost-of-living increase for benefits is determined based on the percentage increase, if any, in the CPI from the last computation quarter to the third quarter of the current year. Therefore, we compute the increase in the CPI from the third quarter of 2023 to the third quarter of 2024.

Section 215(i)(1) of the Act states that the CPI for a cost-of-living computation quarter is the arithmetic mean of this index for the 3 months in that quarter. In accordance with 20 CFR 404.275, we round the arithmetic mean, if necessary, to the nearest 0.001. The CPI for each month in the quarter ending September 30, 2023, the last computation quarter, is: for July 2023, 299.899; for August 2023, 301.551; and for September 2023, 302.257. The arithmetic mean for the calendar quarter ending September 30, 2023, is 301.236. The CPI for each month in the quarter ending September 30, 2024, is: for July 2024, 308.501; for August 2024, 308.640; and for September 2024, 309.046. The arithmetic mean for the calendar quarter ending September 30, 2024, is 308.729. The CPI for the calendar quarter ending September 30, 2024, exceeds that for the calendar quarter ending September 30, 2023, by 2.5 percent (rounded to the nearest 0.1). Therefore, beginning December 2024, a cost-of-living benefit increase of 2.5 percent is effective for benefits under title II of the Act.

Section 215(i) also specifies that a benefit increase under title II, effective for December of any year, will be limited to the increase in the national average wage index for the prior year if the OASDI fund ratio for that year is below 20.0 percent. The OASDI fund ratio for a year is the ratio of the combined asset reserves of the OASI and DI Trust Funds at the beginning of that year to the combined cost of the programs during that year. For 2024, the OASDI fund ratio is reserves of $2,788,463 million divided by estimated cost of $1,483,116 million, or 188.0 percent. Because the 188.0 percent OASDI fund ratio exceeds 20.0 percent, the benefit increase for December 2024 is not limited to the increase in the national average wage index.

Program Amounts That Change Based on the Cost-of-Living Increase

The following program amounts change based on the cost-of-living increase: (1) title II benefits; (2) title XVI payments; (3) title VIII benefits; (4) the student earned income exclusion; (5) the fee for services performed by a representative payee; and (6) the appointed representative fee assessment.

Title II Benefit Amounts

In accordance with section 215(i) of the Act, for workers and family members for whom eligibility for benefits (that is, the worker's attainment of age 62, or disability or death before age 62) occurred before 2025, benefits will increase by 2.5 percent beginning with benefits for December 2024, which are payable in January 2025. For those first eligible after 2024, the 2.5 percent increase will not apply.

For eligibility after 1978, we determine benefits using a formula provided by the Social Security Amendments of 1977 (Pub. L. 95-216), as described later in this notice.

For eligibility before 1979, we determine benefits by using a benefit table. The table is available at www.ssa.gov/oact/ProgData/tableForm.html or by writing to: Social Security Administration, Office of Public Inquiries and Communications Support, 1100 West High Rise, 6401 Security Boulevard, Baltimore, MD 21235.

Section 215(i)(2)(D) of the Act requires that, when we determine an increase in Social Security benefits, we will publish in the Federal Register a revision of the range of the PIAs and maximum family benefits based on the dollar amount and other provisions described in section 215(a)(1)(C)(i). We refer to these benefits as “special minimum” benefits. These benefits are payable to certain individuals with long periods of low earnings. To qualify for these benefits, an individual must have at least 11 years of coverage. To earn a year of coverage for purposes of the special minimum benefit, a person must earn at least a certain proportion of the old-law contribution and benefit base (described later in this notice). For years before 1991, the proportion is 25 percent; for years after 1990, it is 15 percent. In accordance with section 215(a)(1)(C)(i), the table below shows the revised range of PIAs and maximum family benefit amounts after the 2.5 percent benefit increase.

Special Minimum PIAs and Maximum Family Benefits Payable for December 2024
Number of years of coverage | PIA | Maximum family benefit
11 | $52.10 | $79.70
12 | 106.90 | 162.10
13 | 161.80 | 244.60
14 | 216.30 | 326.40
15 | 270.70 | 408.10
16 | 325.90 | 490.60
17 | 380.70 | 573.30
18 | 435.40 | 655.10
19 | 490.10 | 737.50
20 | 545.10 | 818.90
21 | 600.00 | 902.10
22 | 654.30 | 983.70
23 | 710.10 | 1,067.40
24 | 764.70 | 1,148.80
25 | 818.90 | 1,230.50
26 | 874.70 | 1,313.80
27 | 928.70 | 1,395.90
28 | 983.50 | 1,477.70
29 | 1,038.50 | 1,560.50
30 | 1,093.10 | 1,641.70

Title XVI Payment Amounts

In accordance with section 1617 of the Act, the Federal benefit rates used in computing Federal SSI payments for the aged, blind, and disabled will increase by 2.5 percent effective January 2025. For 2024, we determined the monthly payment amounts to be—$943 for an eligible individual, $1,415 for an eligible individual with an eligible spouse, and $472 for an essential person. These amounts were derived from yearly, unrounded Federal SSI payment amounts of $11,321.49, $16,980.36, and $5,673.73, respectively. For 2025, these yearly unrounded amounts increase by 2.5 percent to $11,604.53, $17,404.87, and $5,815.57, respectively. We must round each of these resulting amounts, when not a multiple of $12, to the next lower multiple of $12. Therefore, the annual amounts, effective for 2025, are $11,604, $17,400, and $5,808. Dividing the yearly amounts by 12 gives the respective monthly amounts for 2025—$967, $1,450, and $484. For an eligible individual with an eligible spouse, we equally divide the amount payable between the two spouses.

Title VIII Benefit Amount

Title VIII of the Act provides for special benefits to certain WWII veterans who reside outside the United States. Section 805 of the Act provides that “[t]he benefit under this title payable to a qualified individual for any month shall be in an amount equal to 75 percent of the Federal benefit rate [the maximum amount for an eligible individual] under title XVI for the month, reduced by the amount of the qualified individual's benefit income for the month.” Therefore, the maximum monthly benefit for 2025 under this provision is 75 percent of $967, or $725.25.

Student Earned Income Exclusion

Children who are blind or have a determined disability can have limited earnings that do not count against their SSI payments if they are students regularly attending school, college, university, or a course of vocational or technical training. The maximum amount of such income that we may exclude in 2024 is $2,290 per month, but not more than $9,230 in all of 2024. These amounts increase based on a formula set forth in regulation 20 CFR 416.1112.

To compute each of the monthly and yearly maximum amounts for 2025, we increase the unrounded amount for 2024 by the latest cost-of-living increase. If the calculated amount is not a multiple of $10, we round it to the nearest multiple of $10. The unrounded monthly amount for 2024 is $2,290.63. We increase this amount by 2.5 percent to $2,347.90, which we then round to $2,350. Similarly, we increase the unrounded yearly amount for 2024, $9,233.49, by 2.5 percent to $9,464.33 and round this to $9,460. Therefore, the maximum amount of the income exclusion applicable to a student in 2025 is $2,350 per month, but not more than $9,460 in all of 2025.

Fee for Services Performed as a Representative Payee

Sections 205(j)(4)(A)(i) and 1631(a)(2)(D)(i) of the Act permit a qualified organization to collect a monthly fee from a beneficiary for expenses incurred in providing services as the beneficiary's representative payee. In 2024, the fee is limited to the lesser of: (1) 10 percent of the monthly benefit involved; or (2) $54 each month ($100 each month when the beneficiary is entitled to disability benefits, has an alcoholism or drug addiction condition, and is incapable of managing such benefits). The dollar fee limits are subject to increase by the cost-of-living increase, with the resulting amounts rounded to the nearest whole dollar amount. Therefore, we increase the current amounts by 2.5 percent to $55 and $103 for 2025.

Appointed Representative Fee Assessment

Under sections 206(d) and 1631(d) of the Act, whenever the agency pays authorized representative fees directly out of a claimant's past due benefits, we must impose an assessment (or “user fee”) to cover administrative costs. The user fee applied is the lower amount of 6.3 percent of the representative's authorized fee or a dollar amount that is subject to the cost-of-living increase. We derive the dollar limit for December 2024, by increasing the unrounded limit for December 2023, $117.26, by 2.5 percent, which is $120.19. We then round $120.19 to the next lower multiple of $1. The dollar limit effective for December 2024 is, therefore, $120.

National Average Wage Index for 2023

Computation

We determined the national average wage index for calendar year 2023. It is based on the 2022 national average wage index of $63,795.13, which was published in the Federal Register on October 23, 2023 (88 FR 72803), and on the percentage increase in average wages from 2022 to 2023, as measured by annual wage data. We tabulate the annual wage data, including contributions to deferred compensation plans, as required by section 209(k) of the Act. The average amounts of wages calculated from these data were $61,220.07 for 2022 and $63,932.64 for 2023. To determine the national average wage index for 2023 at a level consistent with the national average wage indexing series for 1951 through 1977 (published December 29, 1978, at 43 FR 61016), we multiply the 2022 national average wage index of $63,795.13 by the percentage increase in average wages from 2022 to 2023 (based on SSA-tabulated wage data) as follows. We round the result to the nearest cent.

National Average Wage Index Amount

Multiplying the national average wage index for 2022 ($63,795.13) by the ratio of the average wage for 2023 ($63,932.64) to that for 2022 ($61,220.07) produces the 2023 index, $66,621.80. The national average wage index for calendar year 2023 is about 4.43 percent higher than the 2022 index.

Program Amounts That Change Based on the National Average Wage Index

Under the Act, the following amounts change with annual changes in the national average wage index: (1) the OASDI contribution and benefit base; (2) the exempt amounts under the retirement earnings test; (3) the dollar amounts, or bend points, in the PIA formula; (4) the bend points in the maximum family benefit formula; (5) the earnings required to credit a worker with a quarter of coverage; (6) the old-law contribution and benefit base (as determined under section 230 of the Act as in effect before the 1977 amendments); (7) the substantial gainful activity (SGA) amount applicable to statutorily blind individuals; and (8) the coverage threshold for election officials and election workers. Additionally, under section 3121(x) of the Internal Revenue Code, the domestic employee coverage threshold is based on changes in the national average wage index.

Two amounts also increase under regulatory requirements—the SGA amount applicable to non-blind individuals with a determined disability, and the monthly earnings threshold that establishes a month as part of a trial work period for beneficiaries with a determined disability.

OASDI Contribution and Benefit Base

General

The OASDI contribution and benefit base is $176,100 for remuneration paid in 2025 and self-employment income earned in tax years beginning in 2025. The OASDI contribution and benefit base serves as the maximum annual earnings on which OASDI taxes are paid. It is also the maximum annual earnings used in determining a person's OASDI benefits.

Computation

Section 230(b) of the Act provides the formula used to determine the OASDI contribution and benefit base. Under the formula, the base for 2025 is the larger of: (1) the 1994 base of $60,600 multiplied by the ratio of the national average wage index for 2023 to that for 1992; or (2) the current base ($168,600). If the resulting amount is not a multiple of $300, we round it to the nearest multiple of $300.

OASDI Contribution and Benefit Base Amount

Multiplying the 1994 OASDI contribution and benefit base ($60,600) by the ratio of the national average wage index for 2023 ($66,621.80 as determined above) to that for 1992 ($22,935.42) produces $176,028.22. We round this amount to $176,100. Because $176,100 exceeds the current base amount of $168,600, the OASDI contribution and benefit base is $176,100 for 2025.

Retirement Earnings Test Exempt Amounts

General

We withhold Social Security benefits when a beneficiary under the NRA has earnings more than the applicable retirement earnings test exempt amount. The NRA is the age when retirement benefits (before rounding) are equal to the PIA. The NRA is age 66 for those born in 1943-54. It gradually increases to age 67 for those born in 1960 or later. A higher exempt amount applies in the year in which a person attains NRA, but only for earnings in months before such attainment. A lower exempt amount applies at all other ages below NRA. Section 203(f)(8)(B) of the Act provides formulas for determining the monthly exempt amounts. The annual exempt amounts are exactly 12 times the monthly amounts.

For beneficiaries who attain NRA in the year, we withhold $1 in benefits for every $3 of earnings over the annual exempt amount for months before NRA. For all other beneficiaries under NRA, we withhold $1 in benefits for every $2 of earnings over the annual exempt amount.

Computation

Under the formula that applies to beneficiaries attaining NRA after 2025, the lower monthly exempt amount for 2025 is the larger of: (1) the 1994 monthly exempt amount multiplied by the ratio of the national average wage index for 2023 to that for 1992; or (2) the 2024 monthly exempt amount ($1,860). If the resulting amount is not a multiple of $10, we round it to the nearest multiple of $10.

Under the formula that applies to beneficiaries attaining NRA in 2025, the higher monthly exempt amount for 2025 is the larger of: (1) the 2002 monthly exempt amount multiplied by the ratio of the national average wage index for 2023 to that for 2000; or (2) the 2024 monthly exempt amount ($4,960). If the resulting amount is not a multiple of $10, we round it to the nearest multiple of $10.

Lower Exempt Amount

Multiplying the 1994 retirement earnings test monthly exempt amount of $670 by the ratio of the national average wage index for 2023 ($66,621.80) to that for 1992 ($22,935.42) produces $1,946.19. We round this to $1,950. Because $1,950 exceeds the current exempt amount of $1,860, the lower retirement earnings test monthly exempt amount is $1,950 for 2025. The lower annual exempt amount is $23,400 under the retirement earnings test.

Higher Exempt Amount

Multiplying the 2002 retirement earnings test monthly exempt amount of $2,500 by the ratio of the national average wage index for 2023 ($66,621.80) to that for 2000 ($32,154.82) produces $5,179.77. We round this to $5,180. Because $5,180 exceeds the current exempt amount of $4,960, the higher retirement earnings test monthly exempt amount is $5,180 for 2025. The higher annual exempt amount is $62,160 under the retirement earnings test.

Primary Insurance Amount Formula

General

The Social Security Amendments of 1977 provided a method for computing benefits that generally applies when a worker first becomes eligible for benefits after 1978. This method uses the worker's average indexed monthly earnings (AIME) to compute the PIA. We adjust the formula each year to reflect changes in general wage levels, as measured by the national average wage index.

We also adjust, or index, a worker's earnings to reflect the change in the general wage levels that occurred during the worker's years of employment. Such indexing ensures that a worker's future benefit level will reflect the general rise in the standard of living that will occur during their working lifetime. To compute the AIME, we first determine the required number of years of earnings. We then select the number of years with the highest indexed earnings, add the indexed earnings for those years, and divide the total amount by the total number of months in those years. We then round the resulting average amount down to the next lower dollar amount. The result is the AIME.

Computing the PIA

The PIA is the sum of three separate percentages of portions of the AIME. In 1979 (the first year the formula was in effect), these portions were the first $180, the amount between $180 and $1,085, and the amount above $1,085. We call the dollar amounts in the formula governing the portions of the AIME the bend points of the formula. Therefore, the bend points for 1979 were $180 and $1,085.

To obtain the bend points for 2025, we multiply each of the 1979 bend-point amounts by the ratio of the national average wage index for 2023 to that average for 1977. We then round these results to the nearest dollar. Multiplying the 1979 amounts of $180 and $1,085 by the ratio of the national average wage index for 2023 ($66,621.80) to that for 1977 ($9,779.44) produces the amounts of $1,226.24 and $7,391.49. We round these to $1,226 and $7,391. Therefore, the portions of the AIME to be used in 2025 are the first $1,226, the amount between $1,226 and $7,391, and the amount above $7,391.

Therefore, for individuals who first become eligible for old-age insurance benefits or disability insurance benefits in 2025, or who die in 2025 before becoming eligible for benefits, their PIA will be the sum of:

(a) 90 percent of the first $1,226 of their AIME, plus

(b) 32 percent of their AIME between $1,226 and $7,391, plus

(c) 15 percent of their AIME above $7,391.

We round this amount to the next lower multiple of $0.10 if it is not already a multiple of $0.10. This formula and the rounding adjustment are stated in section 215(a) of the Act.

Maximum Benefits Payable to a Family

General

The 1977 amendments continued the policy of limiting the total monthly benefits that a worker's family may receive based on the worker's PIA. Those amendments also continued the relationship between maximum family benefits and PIAs but changed the method of computing the maximum benefits that may be paid to a worker's family. The Social Security Disability Amendments of 1980 (Pub. L. 96-265) established a formula for computing the maximum benefits payable to the family of a worker with a determined disability. This formula applies to the family benefits of workers who first become entitled to disability insurance benefits after June 30, 1980, and who first become eligible for these benefits after 1978. For workers with determined disabilities who are initially entitled to disability benefits before July 1980 or whose disability began before 1979, we compute the family maximum payable the same as the old-age and survivor family maximum.

Computing the Old-Age and Survivor Family Maximum

The formula used to compute the family maximum is similar to that used to compute the PIA. It involves computing the sum of four separate percentages of portions of the worker's PIA. In 1979, these portions were the first $230, the amount between $230 and $332, the amount between $332 and $433, and the amount above $433. We refer to such dollar amounts in the formula as the bend points of the family-maximum formula.

To obtain the bend points for 2025, we multiply each of the 1979 bend-point amounts by the ratio of the national average wage index for 2023 to that average for 1977. Then we round this amount to the nearest dollar. Multiplying the amounts of $230, $332, and $433 by the ratio of the national average wage index for 2023 ($66,621.80) to that for 1977 ($9,779.44) produces the amounts of $1,566.86, $2,261.73, and $2,949.78. We round these amounts to $1,567, $2,262, and $2,950. Therefore, the portions of the PIAs to be used in 2025 are the first $1,567, the amount between $1,567 and $2,262, the amount between $2,262 and $2,950, and the amount above $2,950.

So, for the family of a worker who becomes age 62 or dies in 2025 before age 62, we compute the total benefits payable to them so that it does not exceed:

(a) 150 percent of the first $1,567 of the worker's PIA, plus

(b) 272 percent of the worker's PIA between $1,567 and $2,262, plus

(c) 134 percent of the worker's PIA between $2,262 and $2,950, plus

(d) 175 percent of the worker's PIA above $2,950.

We then round this amount to the next lower multiple of $0.10 if it is not already a multiple of $0.10. This formula and the rounding adjustment are stated in section 203(a) of the Act.

Quarter of Coverage Amount

General

The earnings required for a quarter of coverage in 2025 is $1,810. A quarter of coverage is the basic unit for determining if a worker is insured under the Social Security program. For years before 1978, we generally credited an individual with (1) a quarter of coverage for each quarter in which they were paid wages of $50 or more or (2) four quarters of coverage for every tax year in which they earned $400 or more of self-employment income. Beginning in 1978, employers generally report wages annually instead of quarterly. With the change to yearly reporting, section 352(b) of the Social Security Amendments of 1977 amended section 213(d) of the Act to provide that a quarter of coverage would be credited for each $250 of an individual's total wages and self-employment income for calendar year 1978 up to a maximum of four quarters of coverage for the year. The amendment also provided a formula for years after 1978.

Computation

Under the prescribed formula, the quarter of coverage amount for 2025 is the larger of: (1) the 1978 amount of $250 multiplied by the ratio of the national average wage index for 2023 to that for 1976; or (2) the current amount ($1,730). Section 213(d) provides that if the resulting amount is not a multiple of $10, we round it to the nearest multiple of $10.

Quarter of Coverage Amount

Multiplying the 1978 quarter of coverage amount ($250) by the ratio of the national average wage index for 2023 ($66,621.80) to that for 1976 ($9,226.48) produces $1,805.18. We then round this amount to $1,810. Because $1,810 exceeds the current amount of $1,730, the quarter of coverage amount is $1,810 for 2025.

Old-Law Contribution and Benefit Base

General

The old-law contribution and benefit base for 2025 is $130,800. This base would have been effective under the Act without the enactment of the 1977 amendments.

The old-law contribution and benefit base is used by:

(a) the Railroad Retirement program to determine certain tax liabilities and tier II benefits payable under that program to supplement the tier I payments that correspond to basic Social Security benefits,

(b) the Pension Benefit Guaranty Corporation to determine the maximum amount of pension guaranteed under the Employee Retirement Income Security Act (section 230(d) of the Act),

(c) Social Security to determine a year of coverage in computing the special minimum benefit, as described earlier, and

(d) Social Security to compute benefits for people who are also eligible and receiving pensions based on employment not covered under section 210 of the Act. We credit a year of coverage, for this purpose only, for each year in which earnings equal or exceed 25 percent of the old-law base.

Computation

The old-law contribution and benefit base is the larger of: (1) the 1994 old-law base ($45,000) multiplied by the ratio of the national average wage index for 2023 to that for 1992; or (2) the current old-law base ($125,100). If the resulting amount is not a multiple of $300, we round it to the nearest multiple of $300.

Old-Law Contribution and Benefit Base Amount

Multiplying the 1994 old-law contribution and benefit base ($45,000) by the ratio of the national average wage index for 2023 ($66,621.80) to that for 1992 ($22,935.42) produces $130,714.02. We round this amount to $130,800. Because $130,800 exceeds the current amount of $125,100, the old-law contribution and benefit base is $130,800 for 2025.

Substantial Gainful Activity Amounts

General

A finding of disability under titles II and XVI of the Act requires that a person, except for a child with a disability determined under title XVI, be unable to engage in SGA. A person who is earning more than a certain monthly amount is ordinarily considered to be engaging in SGA. The monthly earnings considered as SGA depends on the nature of a person's disability. Section 223(d)(4)(A) of the Act specifies the formula for determining the SGA amount for statutorily blind individuals under title II while our regulations (20 CFR 404.1574 and 416.974) specify the formula for determining the SGA amount for non-blind individuals with a determined disability.

Computation

The monthly SGA amount for statutorily blind individuals under title II for 2025 is the larger of: (1) the amount for 1994 multiplied by the ratio of the national average wage index for 2023 to that for 1992; or (2) the amount for 2024. The monthly SGA amount for non-blind individuals with a determined disability for 2025 is the larger of: (1) the amount for 2000 multiplied by the ratio of the national average wage index for 2023 to that for 1998; or (2) the amount for 2024. In either case, if the resulting amount is not a multiple of $10, we round it to the nearest multiple of $10.

SGA Amount for Statutorily Blind Individuals

Multiplying the 1994 monthly SGA amount for statutorily blind individuals ($930) by the ratio of the national average wage index for 2023 ($66,621.80) to that for 1992 ($22,935.42) produces $2,701.42. We then round this amount to $2,700. Because $2,700 exceeds the current amount of $2,590, the monthly SGA amount for statutorily blind individuals is $2,700 for 2025.

SGA Amount for Non-Blind Individuals Who Have a Determined Disability

Multiplying the 2000 monthly SGA amount for non-blind individuals with a determined disability ($700) by the ratio of the national average wage index for 2023 ($66,621.80) to that for 1998 ($28,861.44) produces $1,615.83. We then round this amount to $1,620. Because $1,620 exceeds the current amount of $1,550, the monthly SGA amount for non-blind individuals with a determined disability is $1,620 for 2025.

Trial Work Period Earnings Threshold

General

During a trial work period of 9 months in a rolling 60-month period, a beneficiary receiving Social Security disability benefits may test their ability to work and still receive monthly benefit payments. To be considered a trial work period month, earnings must be over a certain level. In 2025, any month in which earnings exceed $1,160 is considered a month of services for an individual's trial work period.

Computation

The method used to determine the new amount is set forth in our regulations at 20 CFR 404.1592(b). Monthly earnings in 2025, used to determine whether a month is part of a trial work period, is the larger of: (1) the amount for 2001 ($530) multiplied by the ratio of the national average wage index for 2023 to that for 1999; or (2) the amount for 2024. If the resulting amount is not a multiple of $10, we round it to the nearest multiple of $10.

Trial Work Period Earnings Threshold Amount

Multiplying the 2001 monthly earnings threshold ($530) by the ratio of the national average wage index for 2023 ($66,621.80) to that for 1999 ($30,469.84) produces $1,158.84. We then round this amount to $1,160. Because $1,160 exceeds the current amount of $1,110, the monthly earnings threshold is $1,160 for 2025.

Domestic Employee Coverage Threshold

General

The minimum amount a domestic worker must earn so that such earnings are covered under Social Security or Medicare is the domestic employee coverage threshold. For 2025, this threshold is $2,800. Section 3121(x) of the Internal Revenue Code provides the formula for increasing the threshold.

Computation

Under the formula, the domestic employee coverage threshold for 2025 is equal to the 1995 amount of $1,000 multiplied by the ratio of the national average wage index for 2023 to that for 1993. If the resulting amount is not a multiple of $100, we round it to the next lower multiple of $100.

Domestic Employee Coverage Threshold Amount

Multiplying the 1995 domestic employee coverage threshold ($1,000) by the ratio of the national average wage index for 2023 ($66,621.80) to that for 1993 ($23,132.67) produces $2,879.99. We then round this amount to $2,800. Therefore, the domestic employee coverage threshold amount is $2,800 for 2025.

Election Official and Election Worker Coverage Threshold

General

The minimum amount an election official and election worker must earn so the earnings are covered under Social Security or Medicare is the election official and election worker coverage threshold. For 2025, this threshold is $2,400. Section 218(c)(8)(B) of the Act provides the formula for increasing the threshold.

Computation

Under the formula, the election official and election worker coverage threshold for 2025 is equal to the 1999 amount of $1,000 multiplied by the ratio of the national average wage index for 2023 to that for 1997. If the amount we determine is not a multiple of $100, we round it to the nearest multiple of $100.

Election Official and Election Worker Coverage Threshold Amount

Multiplying the 1999 coverage threshold amount ($1,000) by the ratio of the national average wage index for 2023 ($66,621.80) to that for 1997 ($27,426.00) produces $2,429.15. We then round this amount to $2,400. Therefore, the election official and election worker coverage threshold amount is $2,400 for 2025.

(Catalog of Federal Domestic Assistance: Program Nos. 96.001 Social Security-Disability Insurance; 96.002 Social Security-Retirement Insurance; 96.004 Social Security-Survivors Insurance; 96.006 Supplemental Security Income)

The Commissioner of the Social Security Administration, Martin O'Malley, having reviewed and approved this document, is delegating the authority to electronically sign this document to Faye I. Lipsky, who is a Federal Register Liaison for SSA, for purposes of publication in the Federal Register.

Faye I. Lipsky,
Federal Register Liaison, Office of Legislation and Congressional Affairs, Social Security Administration.

[FR Doc. 2024-24871 Filed 10-24-24; 8:45 am]

BILLING CODE P